DEPARTMENT OF DEFENSE

Department of the Army

Performance Review Boards Membership

Correction

In notice document 02-31454 beginning on page 76729 in the issue of Friday, December 13, 2002, make the following corrections:

1. On page 76730, in the first column, in section (b)3., “Armburuster” should read “Armbruster”.

2. On the same page, in the second column, in section (b)21., “Judity” should read “Judith”.

3. On the same page, in the same cloumn, in section (b)30., “Kelley” should read “Kelly”.

[FR Doc. C2-31454 Filed 12-19-02; 8:45 am]

BILLING CODE 1505-01-D

DEPARTMENT OF LABOR

Mine Safety and Health Administration

30 CFR Part 75

RIN 1219-AB33

Emergency Evacuations; Emergency Temporary Standard

Correction

In rule document 02-31358 beginning on page 76658 in the issue of Thursday, December 12, 2002 make the following correction:

§75.1502 [Corrected]

On page 76665, in the third column, in §75.1502, in paragraph (c)(2), in the sixth line, “(a)(1)” should read, “(a)(1) through (4)”.

[FR Doc. C2-31358 Filed 12-19-02; 8:45 am]

BILLING CODE 1505-01-D